DEPARTMENT OF JUSTICE

Notice of Lodging of Consent Decree Pursuant to the Comprehensive Environmental Response Compensation and Liability Act (“CERCLA”)

Pursuant to section 122(d) of CERCLA, 42 U.S.C. 9622(d), and 28 CFR 50.7 notice is hereby given that on August 2, 2004, a proposed Consent Decree in United States v. Izzo Group, Inc., and Pasco Izzo, Sr., Civ. No. 1:04-CV-11689 (GAO), was lodged with the United States District Court for the District of Massachusetts.¹

In this action the United States, on behalf of the United States Environmental Protection Agency (“EPA”), seeks cost recovery with respect to the Cohen Property Superfund Site (“Site”), located in the City of Taunton, Massachusetts, pursuant to the Comprehensive Environmental Response, Compensation and Liability Act against Izzo Group, Inc., and Pasco Izzo, Sr. (the “Settling Parties”). Under the terms of the proposed settlement, the Settling Parties will pay $100,000, plus interest, to reimburse the United States for costs incurred by EPA at the site. This settlement amount is based on the Settling Parties' limited ability to pay the full amount of EPA's unreimbursed response costs. The proposed settlement also provides for payment of approximately $2 million by the United States, on behalf of the United States Department of Defense, in reimbursement of EPA's response costs incurred at the Site.

The Department of Justice will receive, for a period of thirty (30) days from the date of this publication, written comments relating to the proposed Consent Decree. Comments should be addressed to the Assistant Attorney General, Environment and Natural Resources Division, P.O. Box 7611, U.S. Department of Justice, Washington, DC 20044-7611, and should refer to United States v. Izzo Group, Inc., et al., DOJ Ref. #90-11-21245/1.

The proposed Consent Decree may be examined at the Office of the United States Attorney for the District of Massachusetts, Office of the United States Attorney, 1 Courthouse Way, Suite 9200, Boston, MA, 02210, and at the U.S. Environmental Protection Agency, Region I, 1 Congress Street, Suite 1100, Boston, MA 02114. During the public comment period, the Consent Decree may also be examined on the following Department of Justice Web site: http://www.usdoj.gov/enrd/open.html. A copy of the Consent Decree may be also be obtained by mail from the Consent Decree Library, P.O. Box 7611, Washington, DC 20044-7611, or by faxing or e-mailing a request to Tonia Fleetwood (tonia.fleetwood@usdoj.gov), fax no. (202) 514-0097, phone confirmation number (202) 514-1547. In requesting a copy from the Consent Decree Library, please enclose a check in the amount of $5.25 (25 cents per page reproduction costs) for the Consent Decree payable to the U.S. Treasury.

Ronald G. Gluck,
Assistant Section Chief, Environmental Enforcement Section, Environment and Natural Resources Division.

[FR Doc. 04-18397 Filed 8-10-04; 8:45 am]

BILLING CODE 4410-15-M